SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before October 8, 2010.

ADDRESSES: Send all comments regarding whether this information collection is necessary for the proper performance of the function of the agency, whether the burden estimates are accurate, and if there are ways to minimize the estimated burden and enhance the quality of the collection, to Travis Farris, Assistant Counsel to the Inspector General, Office of Inspector General, Small Business Administration, 409 3rd Street, 5th Floor, Washington, DC 20416.

FOR FURTHER INFORMATION CONTACT: Travis Farris, Office of Inspector General, 202-205-7178 travis.farris@sba.gov Curtis B. Rich, Management Analyst, 202-205-7030 curtis.rich@sba.gov

SUPPLEMENTARY INFORMATION: The form is used to collect information needed to make character determinations with respect to applicant for monetary loan assistance or applicants for participation in SBA programs. The information collected is used to conduct name checks looking for criminal records at the national (FBI) and local levels.

Title: “Statement of Personal History.”

Description of Respondents: On Occasion.

Form Number: 912.

Annual Responses: 142,000.

Annual Burden: 35,500.

Jacqueline White,
Chief, Administrative Information Branch.

[FR Doc. 2010-19563 Filed 8-6-10; 8:45 am]

BILLING CODE 8025-01-P